FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 004473F.

Name: Maromar International Freight Forwarders Inc. dba Maromar Shipping Line.

Address: 8710 NW. 99th Street, Medley, FL 33178.

Date Revoked: August 17, 2011.

Reason: Failed to maintain a valid bond.

License Number: 17499N.

Name: Unico Logistics Inc.

Address: 147-04 183rd Street, Suite 203, Jamaica, NY 11413.

Date Revoked: August 1, 2011.

Reason: Failed to maintain a valid bond.

License Number: 17529N.

Name: Champion Int'l Freight, Inc.

Address: 3355 Spring Mountain Road, Suite 66, Las Vegas, NV 89102.

Date Revoked: August 1, 2011.

Reason: Failed to maintain a valid bond.

License Number: 019746N.

Name: Carmen Cargo Express Inc.

Address: 2130 SW. 58th Way, West Park, FL 33023.

Date Revoked: August 25, 2011.

Reason: Failed to maintain a valid bond.

License Number: 019901N.

Name: Ambiorix Cargo Express Inc.

Address: 453 East 167th Street, Bronx, NY 10456.

Date Revoked: August 21, 2011.

Reason: Failed to maintain a valid bond.

License Number: 020213NF.

Name: Transport Team USA, Inc.

Address: 1050 Wall Street West, Suite 201, Lyndhurst, NJ 07071.

Date Revoked: August 18, 2011.

Reason: Failed to maintain valid bonds.

License Number: 020445NF.

Name: Freight It, Inc.

Address: 11222 La Cienega Blvd., Suite 555, Inglewood, CA 90304.

Date Revoked: August 6, 2011.

Reason: Failed to maintain valid bonds.

License Number: 021359N.

Name: Titan International Logistics, LLC.

Address: 16905 Cherie Place, Carson, CA 90746.

Date Revoked: August 27, 2011.

Reason: Failed to maintain a valid bond.

License Number: 021420N.

Name: ASG Corporation dba RJL Logistics.

Address: As Lito Rd., Koblerville Village, CK, Saipan, MP 96950.

Date Revoked: August 12, 2011.

Reason: Failed to maintain a valid bond.

License Number: 021781F.

Name: T.V.L. Global Logistics Corp.

Address: 9550 Flair Drive, Suite 501, El Monte, CA 91731.

Date Revoked: August 24, 2011.

Reason: Failed to maintain a valid bond.

License Number: 021854NF.

Name: Global Freight Company, Inc.

Address: 6485 Shiloh Road, Suite B-500, Alpharetta, GA 30005.

Date Revoked: August 24, 2011.

Reason: Failed to maintain valid bonds.

License Number: 022017F.

Name: Shinyoung Express Inc.

Address: 1490 Beachey Place, Carson, CA 90746.

Date Revoked: August 13, 2011.

Reason: Failed to maintain a valid bond.

License Number: 022279N.

Name: PB Direct Corporation.

Address: 808 Ahua Street, MB98, Honolulu, HI 96819.

Date Revoked: August 25, 2011.

Reason: Failed to maintain a valid bond.

Sandra L. Kusumoto,
Director, Bureau of Certification and Licensing.

[FR Doc. 2011-24412 Filed 9-22-11; 8:45 am]

BILLING CODE 6730-01-P